DEPARTMENT OF HOMELAND SECURITY

Federal Emergency Management Agency

[Docket ID FEMA-2018-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of February 15, 2019 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

David I. Maurstad,
Deputy Associate Administrator for Insurance and Mitigation, Department of Homeland Security, Federal Emergency Management Agency.

Community | Community map repository address
Kankakee County, Illinois and Incorporated Areas
Docket No.: FEMA-B-1744
Unincorporated Areas of Kankakee County | Administration Building, 189 East Court Street, Kankakee, IL 60901.
Will County, Illinois and Incorporated Areas
Docket No.: FEMA-B-1754
City of Aurora | Engineering Department, City Hall, 44 East Downer Place, Aurora, IL 60505.
City of Braidwood | City Hall, 141 West Main Street, Braidwood, IL 60408.
City of Crest Hill | City Hall, 1610 Plainfield Road, Crest Hill, IL 60403.
City of Joliet | City Hall, 150 West Jefferson Street, Joliet, IL 60432.
City of Lockport | Public Works and Engineering, 17112 South Prime Boulevard, Lockport, IL 60441.
City of Naperville | City Hall, 400 South Eagle Street, Naperville, IL 60540.
City of Wilmington | City Hall, 1165 South Water Street, Wilmington, IL 60481.
Unincorporated Areas of Will County | Land Use Department, 58 East Clinton Street, Suite 100, Joliet, IL 60432.
Village of Beecher | Village Hall, 625 Dixie Highway, Beecher, IL 60401.
Village of Bolingbrook | Village Hall, 375 West Briarcliff Road, Bolingbrook, IL 60440.
Village of Channahon | Village Hall, 24555 South Navajo Drive, Channahon, IL 60410.
Village of Coal City | Village Hall, 515 South Broadway Street, Coal City, IL 60416.
Village of Crete | Village Hall, 524 West Exchange Street, Crete, IL 60417.
Village of Diamond | Village Hall, 1750 East Division Street, Diamond, IL 60416.
Village of Elwood | Village Hall, 401 East Mississippi Avenue, Elwood, IL 60421.
Village of Frankfort | Village Hall, 432 West Nebraska Street, Frankfort, IL 60423.
Village of Homer Glen | Village Hall, 14240 West 151st Street, Homer Glen, IL 60491.
Village of Lemont | Village Hall, 418 Main Street, Lemont, IL 60439.
Village of Manhattan | Village Hall, 260 Market Place, Manhattan, IL 60442.
Village of Minooka | Village Hall, 121 East McEvilly Road, Minooka, IL 60447.
Village of Mokena | Village Hall, 11004 Carpenter Street, Mokena, IL 60448.
Village of Monee | Village Hall, 5130 West Court Street, Monee, IL 60449.
Village of New Lenox | Village Hall, 1 Veterans Parkway, New Lenox, IL 60451.
Village of Orland Park | Village Hall, 14700 South Ravinia Avenue, Orland Park, IL 60462.
Village of Park Forest | Village Hall, 350 Victory Drive, Park Forest, IL 60466.
Village of Peotone | Village Hall, 208 East Main Street, Peotone, IL 60468.
Village of Plainfield | Village Hall, 24401 West Lockport Street, Plainfield, IL 60544.
Village of Rockdale | Village Hall, 79 Moen Avenue, Rockdale, IL 60436.
Village of Romeoville | Village Hall, 1050 West Romeo Road, Romeoville, IL 60446.
Village of Shorewood | Village Hall, One Towne Center Boulevard, Shorewood, IL 60404.
Village of Steger | Village Hall, 3320 Lewis Avenue, Steger, IL 60475.
Village of Tinley Park | Village Hall, 16250 South Oak Park Avenue, Tinley Park, IL 60477.
Village of University Park | Village Hall, 698 Burnham Drive, University Park, IL 60484.
Village of Woodridge | Village Hall, 5 Plaza Drive, Woodridge, IL 60517.
Itawamba County, Mississippi and Incorporated Areas
Docket No.: FEMA-B-1718
City of Fulton | City Hall, 213 West Wiygul Street, Fulton, MS 38843.
Town of Mantachie | Town Hall, 3256 Highway 371 North, Mantachie, MS 38855.
Town of Tremont | Town Hall, 12761 Highway 23 North, Tremont, MS 38876.
Unincorporated Areas of Itawamba County | Itawamba County Courthouse, Chancery Clerk's Office, 201 West Main Street, Fulton, MS 38843.
Monroe County, Mississippi and Incorporated Areas
Docket No.: FEMA-B-1718
City of Aberdeen | City Hall, 125 West Commerce Street, Aberdeen, MS 39730.
City of Amory | City Hall, 109 Front Street South, Amory, MS 38821.
Town of Smithville | Town Hall, 63443 Highway 25 North, Smithville, MS 38870.
Unincorporated Areas of Monroe County | Monroe County Emergency Management Office, 50058 Airport Road, Aberdeen, MS 39730.
Village of Gattman | Mayor's Office, 50005 Mayor Street, Gattman, MS 38844.

[FR Doc. 2018-23343 Filed 10-24-18; 8:45 am]

BILLING CODE 9110-12-P